NATIONAL SCIENCE FOUNDATION

Proposal Review Panel for Materials Research: Notice of Meeting

In accordance with the Federal Advisory Committee Act (Pub. L. 92-463, as amended), the National Science Foundation (NSF) announces the following meeting:

Name and Committee Code: Site visit review of Platform for the Two-Dimensional Crystal Consortium, a Materials Innovation Platform (2DCC-MIP), (DMR) (#1203).

Date and Time: September 14, 2022; 9:00 a.m.-6:00 p.m.; September 15, 2022; 9:00 a.m.-4:00 p.m.

Place: National Science Foundation, 2415 Eisenhower Avenue, Alexandria, Virginia 22314 (Virtual).

Type of Meeting: Part Open.

Contact Person: Z. Charles Ying, Program Director, Division of Materials Research, National Science Foundation, 2415 Eisenhower Avenue, Alexandria, VA 22314; Telephone (703) 292-8428.

Purpose of Meeting: Virtual site visit to provide advice and recommendations concerning further support of the 2DCC-MIP at Pennsylvania State University.

Agenda

Wednesday, September 14, 2022

9:00 a.m.-10:00 a.m. Closed—Executive Session

10:00 a.m.-11:45 a.m. Open—Review of PARADIM MIP

11:45 a.m.-6:00 p.m. Closed—Executive Session

Thursday, September 15, 2022

9:00 a.m.-4:00 p.m. Closed—Executive Session

Reason for Closing: Topics to be discussed and evaluated during the virtual site review will include information of a proprietary or confidential nature, including technical information; and information on personnel. These matters are exempt under 5 U.S.C.552b(c), (4) and (6) of the Government in the Sunshine Act.

Dated: August 18, 2022.
Crystal Robinson,
Committee Management Officer.

[FR Doc. 2022-18111 Filed 8-22-22; 8:45 am]

BILLING CODE 7555-01-P